DEPARTMENT OF HEALTH AND HUMAN SERVICES

National Institutes of Health

Office of Director, National Institutes of Health; Notice of Meeting

Pursuant to section 10(d) of the Federal Advisory Committee Act, as amended (5 U.S.C. Appendix 2), notice is hereby given of a meeting of the Advisory Committee to the Director, National Institutes of Health (NIH).

The meeting will be open to the public as indicated below, with attendance limited to space available. Individuals who plan to attend and need special assistance, such as sign language interpretation or other reasonable accommodations, should notify the Contact Person listed below in advance of the meeting.

The meeting will be closed to the public in accordance with the provisions set forth in section 552b(c)(9)(B), Title 5 U.S.C., as amended because the premature disclosure of information and the discussions would likely to significantly frustrate implementation of recommendations.

Name of Committee: Advisory Committee to the Director, NIH.

Date: December 5, 2002.

Open: 8 a.m. to 12 p.m.

Agenda: Among the topics proposed for discussion are: (1) Current issues (2) advice on priority areas for the NIH Director and (3) a summary of future action items and follow up items.

Place: National Institutes of Health, 9000 Rockville Pike, Conference Room 6, Building 31C, Bethesda, MD 20892.

Closed: 1 p.m. to 5 p.m.

Agenda: Review and evaluate confidential budgetary items.

Place: National Institutes of Health, 9000 Rockville Pike, Conference Room 6, Building 31C, Bethesda, MD 20892.

Contact Person: Ruth L. Kirschstein, M.D., Deputy Director, NIH, National Institutes of Health, 1 Center Drive MSC 0148, Building 1, Room 126, Bethesda, MD 20892-0148, 301-496-2433, rk25n@nih.gov.

Any interested person may file written comments with the committee by forwarding the statement to the Contact Person listed on this notice. The statement should include the name, address, telephone number and when applicable, the business or professional affiliation of the interested person.

In the interest of security, NIH has instituted stringent procedures for entrance into the building by non-government employees. Persons without a government I.D. will need to show a photo I.D. and sign-in at the security desk upon entering the building.

Information is also available on the home page: http://www.nih.gov/about/director/acd.htm, where an agenda and any additional information for the meeting will be posted when available.

Dated: November 15, 2002.
LaVerne Y. Stringfield,
Director, Office of Federal Advisory Committee Policy.

[FR Doc. 02-29840 Filed 11-22-02; 8:45 am]

BILLING CODE 4140-01-M